DEPARTMENT OF COMMERCE

International Trade Administration

[(A-427-801) (A-428-801) (A-475-801) (A-588-804) (A-559-801) (A-412-801) (A-570-601)]

Continuation of Antidumping Duty Orders: Certain Bearings From France, Germany, Italy, Japan, Singapore, the United Kingdom, and the People's Republic of China

AGENCY: Import Administration, International Trade Administration, Department of Commerce.

ACTION: Notice of Continuation of Antidumping Duty Orders: Certain Bearings from France, Germany, Italy, Japan, Singapore, the United Kingdom, and the People's Republic of China.

SUMMARY: On November 4, 1999 (with respect to France, Germany, Italy, Japan, Singapore, and the United Kingdom) and on April 3, 2000 (with respect to the People's Republic of China (“PRC”)), the Department of Commerce (“the Department”), pursuant to sections 751(c) and 752 of the Tariff Act of 1930, as amended (“the Act”), determined that revocation of the antidumping duty orders on certain bearings from France, Germany, Italy, Japan, Singapore, the United Kingdom, and the PRC would be likely to lead to continuation or recurrence of dumping (64 FR 60321, 60309, 60291, 60275, 60287, 60326, and 65 FR 11550, respectively). On June 28, 2000, the International Trade Commission (“the Commission”), pursuant to section 751(c) of the Act, determined that revocation of these antidumping duty orders on certain bearings from France, Germany, Italy, Japan, Singapore, the United Kingdom, and the PRC would be likely to lead to continuation or recurrence of material injury to an industry in the United States within a reasonably foreseeable time (65 FR 39925). Therefore, pursuant to 19 CFR 351.218(f)(4), the Department is publishing notice of the continuation of antidumping duty orders on certain bearings from France, Germany, Italy, Japan, Singapore, the United Kingdom, and the PRC.

EFFECTIVE DATE: July 11, 2000.

FOR FURTHER INFORMATION CONTACT: Eun W. Cho or James Maeder, Office of Policy for Import Administration, International Trade Administration, U.S. Department of Commerce, 14th Street and Constitution Ave., NW, Washington, DC 20230; telephone: (202) 482-1698 or (202) 482-3330, respectively.

SUPPLEMENTARY INFORMATION:

Background

On April 1, 1999, the Department initiated, and the Commission instituted, sunset reviews (64 FR 15727 and 64 FR 15783, respectively) of the antidumping duty orders on certain bearings from France, Germany, Italy, Japan, Singapore, the United Kingdom, and the PRC, pursuant to section 751(c) of the Act. As a result of its reviews, the Department found that revocation of the antidumping duty orders would be likely lead to continuation or recurrence of dumping and notified the Commission of the magnitude of the margins likely to prevail were the orders to be revoked. ¹

¹ See Final Results of Expedited Sunset Reviews: Antifriction Bearings From France, 64 FR 60321 (November 4, 1999); Final Results of Expedited Sunset Reviews: Antifriction Bearings From Germany, 64 FR 60309 (November 4, 1999); Final Results of Expedited Sunset Review: Cylindrical Roller Bearings From Italy, 64 FR 60291 (November 4, 1999); Final Results of Expedited Sunset Reviews: Antifriction Bearings From Japan, 64 FR 60275 (November 4, 1999); Final Results of Expedited Sunset Review: Ball Bearings From Singapore, 64 FR 60287 (November 4, 1999); Final Results of Expedited Sunset Reviews: Antifriction Bearings From the United Kingdom, 64 FR 60326 (November 4, 1999); and Tapered Roller Bearings From the People’s Republic of China; Final Results of Full Sunset Review, 65 FR 11550 (March 3, 2000).

On June 28, 2000, the Commission determined, pursuant to section 751(c) of the Act, that revocation of the antidumping duty orders on certain bearings from France, Germany, Italy, Japan, Singapore, the United Kingdom, and the PRC would be likely to lead to continuation or recurrence of material injury to an industry in the United States within a reasonably foreseeable time (see, Certain Bearings From China, France, Germany, Hungary, Italy, Japan, Romania, Singapore, Sweden, and the United Kingdom, 65 FR 39925 (June 28, 2000) and USITC Publication 3309, Investigations Nos. AA1921-143, 731-TA-341, 731-TA-343-345, 731-TA-391-397, and 731-TA-399 (Review) (June 2000)).

Scope

Ball Bearings and Parts Thereof (“BBs”)

These products include all antifriction bearings (“AFBs”) that employ balls as the roller element. Imports of these products are classified under the following categories: antifriction balls, ball bearings with integral shafts, ball bearings (including radial ball bearings) and parts thereof, and housed or mounted ball bearing units and parts thereof. Imports of these products are classified under the following Harmonized Tariff Schedule (“HTS”) subheadings: 3926.90.45, 4016.93.00, 4016.93.10, 4016.93.50, 6909.19.5010, 8431.20.00, 8431.39.0010, 8482.10.10, 8482.10.50, 8482.80.00, 8482.91.00, 8482.99.05, 8482.99.35, 8482.99.2580, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

Spherical Plain Bearings, Mounted or Unmounted, and Parts Thereof (“SPBs”)

These products include all spherical plain bearings that employ a spherically shaped sliding element and include spherical plain rod ends. Imports of these products are classified under the following HTS subheadings: 3926.90.45, 4016.93.00, 4016.93.00, 4016.93.10, 4016.93.50, 6909.50,10, 8483.30.80, 8483.90.30, 8485.90.00, 8708.93.5000, 8708.99.50, 8803.10.00, 8803.10.00, 8803.20.00, 8803.30.00, and 8803.90.90.

The Department notes that the HTS subheadings are provided for convenience and customs purposes. The written description of the scope of this proceeding is dispositive. Furthermore, we note that the size or precision grade of a bearing does not influence whether the bearing is covered by the orders. These orders cover all the subject bearings and parts thereof (inner race, outer race, cage, rollers, balls, seals, shields, etc.) outlined above with certain limitations. With regard to finished parts, all such parts are included in the scope of these orders. For unfinished parts, such parts are included if (1) they have been heat-treated, or (2) heat treatment is not required to be performed on the part. Thus, the only unfinished parts that are not covered by these orders are those that will be subject to heat treatment after importation.

The ultimate application of a bearing also does not influence whether the bearing is covered by the orders. Bearings designed for highly specialized applications are not excluded. Any of the subject bearings, regardless of whether they may ultimately be utilized in aircraft, automobiles, or other equipment, are within the scopes of these orders.²

² There have been a number of clarifications to the scopes of these orders. For a complete listing, see Appendix A.

Tapered Roller Bearings and Parts Thereof (“TRBs”)

The merchandise covered by this antidumping duty order (52 FR 22667, June 15, 1987) includes TRBs and parts thereof, finished and unfinished, from the PRC; flange, take up cartridge, and hanger units incorporating tapered roller bearings; and tapered roller housings (except pillow blocks) incorporating tapered rollers, with or without spindles, whether or not for automotive use. The subject merchandise was originally classified under item numbers 680.30, 680.39, 681.10, 692.32 of the Tariff Schedules of the United States Annotated (“TSUSA”); currently, according to the U.S. Customs Service, they are classifiable under item numbers 8482.20.00.10, 8482.20.00.20, 8482.20.00.30, 8482.20.00.40, 8482.20.00.50, 8482.20.00.60, 8482.20.00.70, 8482.20.00.80, 8482.91.00.50, 8482.99.15.00, 8482.99.15.40, 8482.99.15.80, 8483.20.40.80, 8483.20.80.80, 8483.30.80.20, 8708.99.80.15 and 8708.99.80.80 of the Harmonized Tariff Schedule of the United States (“HTS”)

Although the above HTS and TSUSA subheadings are provided for convenience and customs purposes, the written description remains dispositive.

In the ninth administrative review (62 FR 61276, 61289, November 17, 1997), the Department clarified the scope of the order when it added two additional HTS numbers (8708.99.90.15 and 8708.99.80.80) applicable to imports of the subject merchandise which previously had not been identified in the order. The above HTS numbers correspond to subject merchandise previously classified under TSUSA item number 692.32 in the original antidumping order.

We note that scope rulings are made on an order-wide basis.

Determination

As a result of the determinations by the Department and the Commission that revocation of these antidumping duty orders would be likely to lead to continuation or recurrence of dumping and material injury to an industry in the United States, pursuant to section 751(d)(2) of the Act, the Department hereby orders the continuation of the antidumping duty orders on certain bearings from France, Germany, Italy, Japan, Singapore, the United Kingdom, and the PRC. The Department will instruct the U.S. Customs Service to continue to collect antidumping and countervailing duty deposits at the rates in effect at the time of entry for all imports of subject merchandise. The effective date of continuation of these orders will be the date of publication in the Federal Register of this Notice of Continuation. Pursuant to section 751(c)(2) and 751 (c)(6) of the Act, the Department intends to initiate the next five-year review of these orders not later than June 2005.

Dated: July 3, 2000.
Troy H. Cribb,
Acting Assistant Secretary for Import Administration.

Appendix A

The following includes clarifications to the scopes of the Department's various antidumping duty orders on antifriction bearings.

Scope Determinations Made in the Final Determinations of Sales at Less Than Fair Value; Antifriction Bearings (Other Than Tapered Roller Bearings) and Parts Thereof From the Federal Republic of Germany, 54 FR 19006, 19019 (May 3, 1989):

Products Covered

—Rod end bearings and parts thereof

—AFBs used in aviation applications

—Aerospace engine bearings

—Split cylindrical roller bearings

—Wheel hub units

—Slewing rings and slewing bearings (slewing rings and slewing bearings were subsequently excluded by the International Trade Commission's negative injury determination. (See International Trade Commission: Antifriction Bearings (Other Than Tapered Roller Bearings) and Parts Thereof from the Federal Republic of Germany, France, Italy, Japan, Romania, Singapore, Sweden, Thailand and the United Kingdom, 54 FR 21488 (May 18, 1989))

—Wave generator bearings

—Bearings (including mounted or housed units and flanged or enhanced bearings) ultimately utilized in textile machinery

Products Excluded

—Plain bearings other than spherical plain bearings

—Airframe components unrelated to the reduction of friction

—Linear motion devices

—Split pillow block housings

—Nuts, bolts, and sleeves that are not integral parts of a bearing or attached to a bearing under review

—Thermoplastic bearings

—Stainless steel hollow balls

—Textile machinery components that are substantially advanced in function(s) or value

—Wheel hub units imported as part of front and rear axle assemblies; wheel hub units that include tapered roller bearings; and clutch release bearings that are already assembled as parts of transmissions

Scope Rulings Completed Between April 1, 1990, and June 30, 1990. (See Scope Rulings, 55 FR 42750 (October 23, 1990))

Products Excluded

—Antifriction bearings, including integral shaft ball bearings, used in textile machinery and imported with attachments and augmentations sufficient to advance their function beyond load-bearing/friction-reducing capability

Scope Rulings Completed Between July 1, 1990, and September 30, 1990. (See Scope Rulings, 55 FR 43020 (October 25, 1990))

Products Covered

—Rod ends

—Clutch release bearings

—Ball bearings used in the manufacture of helicopters

—Ball bearings used in the manufacture of disk drives

Scope Rulings Published in Antifriction Bearings (Other Than Tapered Roller Bearings) and Parts Thereof; Final Results of Antidumping Administrative Review (AFBs I), 56 FR 31692, 31696 (July 11, 1991)

Products Covered

—Load rollers and thrust rollers, also called mast guide bearings

—Conveyor system trolley wheels and chain wheels

Scope Rulings Completed Between April 1, 1991, and June 30, 1991 (See Notice of Scope Rulings, 56 FR 36774 (August 1, 1991))

Products Excluded

—Textile machinery components including false twist spindles, belt guide rollers, separator rollers, damping units, rotor units, and tension pulleys

Scope Rulings Completed Between July 1, 1991, and September 30, 1991 (See Scope Rulings, 56 FR 57320 (November 8, 1991)):

Products Covered

—Snap rings and wire races

—Bearings imported as spare parts

—Custom-made specialty bearings

Products Excluded

—Certain rotor assembly textile machinery components

—Linear motion bearings

Scope Rulings Completed Between October 1, 1991, and December 31, 1991 (See Notice of Scope Rulings, 57 FR 4597 (February 6, 1992))

Products Covered

—Chain sheaves (forklift truck mast components)

—Loose boss rollers used in textile drafting machinery, also called top rollers

—Certain engine main shaft pilot bearings and engine crank shaft bearings

Scope Rulings Completed Between January 1, 1992, and March 31, 1992 (See Scope Rulings, 57 FR 19602 (May 7, 1992))

Products Covered

—Ceramic bearings

—Roller turn rollers

—Clutch release systems that contain rolling elements

Products Excluded

—Clutch release systems that do not contain rolling elements

—Chrome steel balls for use as check valves in hydraulic valve systems

Scope Rulings Completed Between April 1, 1992, and June 30, 1992 (See Scope Rulings, 57 FR 32973 (July 24, 1992))

Products Excluded

—Finished, semiground stainless steel balls

—Stainless steel balls for non-bearing use (in an optical polishing process)

Scope Rulings Completed Between July 1, 1992, and September 30, 1992 (See Scope Rulings, 57 FR 57420 (December 4, 1992))

Products Covered

—Certain flexible roller bearings whose component rollers have a length-to-diameter ratio of less than 4:1

—Model 15BM2110 bearings

Products Excluded

—Certain textile machinery components

Scope Rulings Completed Between October 1, 1992, and December 31, 1992 (See Scope Rulings, 58 FR 11209 (February 24, 1993))

Products Covered

—Certain cylindrical bearings with a length-to-diameter ratio of less than 4:1

Products Excluded

—Certain cartridge assemblies comprised of a machine shaft, a machined housing and two standard bearings

Scope Rulings Completed Between January 1, 1993, and March 31, 1993 (See Scope Rulings, 58 FR 27542 (May 10, 1993))

Products Covered

—Certain cylindrical bearings with a length-to-diameter ratio of less than 4:1

Scope Rulings Completed Between April 1, 1993, and June 30, 1993 (See Scope Rulings, 58 FR 47124 (September 7, 1993))

Products Covered

—Certain series of INA bearings

Products Excluded

—SAR series of ball bearings

—Certain eccentric locking collars that are part of housed bearing units

Scope Rulings Completed Between October 1, 1993, and December 31, 1993 (See Scope Rulings, 59 FR 8910 (February 24, 1994))

Products Excluded

—Certain textile machinery components

Scope Rulings Completed Between January 1, 1994, and March 31, 1994

Products Excluded

—Certain textile machinery components

Scope Rulings Completed Between October 1, 1994 and December 31, 1994 (See Scope Rulings, 60 FR 12196 (March 6, 1995))

Products Excluded

—Rotek and Kaydon—Rotek bearings, models M4 and L6, are slewing rings outside the scope of the order.

Scope Rulings Completed Between April 1, 1995 and June 30, 1995 (See Scope Rulings, 60 FR 36782 (July 18, 1995))

Products Covered

—Consolidated Saw Mill International (CSMI) Inc.—Cambio bearings contained in CSMI's sawmill debarker are within the scope of the order.

—Nakanishi Manufacturing Corp.—Nakanishi's stamped steel washer with a zinc phosphate and adhesive coating used in the manufacture of a ball bearing is within the scope of the order.

Scope Rulings Completed Between January 1, 1996 and March 31, 1996 (See Scope Rulings, 61 FR 18381 (April 25, 1996))

Products Covered

—Marquardt Switches—Medium carbon steel balls imported by Marquardt are outside the scope of the order.

Scope Rulings Completed Between April 1, 1996 and June 30, 1996 (See Scope Rulings, 61 FR 40194 (August 1, 1996))

Products Excluded

—Dana Corporation—Automotive component, known variously as a center bracket assembly, center bearings assembly, support bracket, or shaft support bearing, is outside the scope of the order.

—Rockwell International Corporation—Automotive component, known variously as a cushion suspension unit, cushion assembly unit, or center bearing assembly, is outside the scope of the order.

—Enkotec Company, Inc.—”Main bearings” imported for incorporation into Enkotec Rotary Nail Machines are slewing rings and, therefore, are outside the scope of the order.

[FR Doc. 00-17387 Filed 7-10-00; 8:45 am]

BILLING CODE 3510-DS-P